DEPARTMENT OF VETERANS AFFAIRS

Notice of Rescission of Record of Decision (ROD)

AGENCY: Department of Veterans Affairs (VA).

ACTION: Notice.

SUMMARY: VA is issuing this notice to advise the public that the January 3, 2017, ROD for the proposed Reconfiguration of VA Black Hills Health Care System (BHHCS) Environmental Impact Statement (EIS) and Integrated Section 106 Consultation is rescinded.

DATES: This rescission is effective October 13, 2020.

FOR FURTHER INFORMATION CONTACT: Ms. Teresa Forbes, Public Affairs Officer, VA Black Hills Heath Care System, 113 Comanche Road, Fort Meade, South Dakota 57741, (605) 720-7170 or by email vablackhills@va.gov.

SUPPLEMENTARY INFORMATION: VA BHHCS provides health care to approximately 19,000 Veterans over 100,000 square miles in western South Dakota (SD), northeastern Nebraska (NE), northwestern Nebraska (NW) and eastern Wyoming (WY). VA BHHCS consists of two medical centers at Fort Meade and Hot Springs, SD and nine points of care as well as Compensated Work Therapy locations.

The existing Hot Springs campus includes buildings constructed in 1907 as part of the Battle Mountain branch of the National Home for Disabled Volunteer Soldiers. The Battle Mountain Sanitarium was recognized as a National Historic Landmark in 2011.

The identified preferred Alternative, referred to as A-2 plus G in the Final EIS, is a hybrid of Alternatives A and C plus Supplemental Alternative G evaluated in the Draft EIS. It includes renovating Building 12 on the existing Hot Springs campus to operate as a Community Based Outpatient Clinic (CBOC), a new multi-specialty outpatient clinic (replacing the existing leased CBOC) and a 100-bed residential rehabilitation treatment program in Rapid City, SD.

Any future Federal action within VA's BHHCS System must comply with environmental review requirements of the National Environmental Policy Act (NEPA) (42 U.S.C. 4321), VA NEPA regulations (38 CFR 26), the National Historic Preservation Act (54 U.S.C. 300101 et seq.) and related authorities, as appropriate.

Signing Authority

The Secretary of Veterans Affairs, or designee, approved this document and authorized the undersigned to sign and submit the document to the Office of the Federal Register for publication electronically as an official document of the Department of Veterans Affairs. Brooks D. Tucker, Acting Chief of Staff, Department of Veterans Affairs, approved this document on October 7, 2020, for publication.

Jeffrey M. Martin,
Assistant Director, Office of Regulation Policy & Management, Office of the Secretary, Department of Veterans Affairs.

[FR Doc. 2020-22543 Filed 10-9-20; 8:45 am]

BILLING CODE 8320-01-P